POSTAL SERVICE

39 CFR Part 111

Refund Procedures for Metered Postage

AGENCY: Postal Service.

ACTION: Proposed rule.

SUMMARY: The Postal Service proposes to revise the Domestic Mail Manual (DMM) to allow refunds for unused, undated metered postage. The proposed mailing standard would benefit any mailer who generates significant quantities of unused, undated metered postage and is able to meet the refund criteria. The Postal Service also proposes minor clarifications to the procedures for requesting refunds for unused, dated metered postage.

DATES: Submit comments on or before November 28, 2003.

ADDRESSES: Mail or deliver written comments to Charles Tricamo, New York Rates and Classification Service Center, Postal Service, 1250 Broadway FL 14, New York, NY, 10095-9599. You can view and copy all written comments at the same address between 9 a.m. and 4 p.m., Monday through Friday.

FOR FURTHER INFORMATION CONTACT: Charles Tricamo, New York Rates and Classification Service Center, at 212-613-8676.

SUPPLEMENTARY INFORMATION: Inclusion of a date in meter indicia is optional for Standard Mail and Package Services items. Many mailers choose to omit the date to increase their production flexibility and allow them to deposit the mailing at any time, even though Postal Service mailing standards do not allow refunds for unused meter indicia lacking a date. The Postal Service grants refunds only for unused, dated meter indicia if requested within 60 days of printing the indicia. The Postal Service proposes that if the mailer can provide sufficient documentation with the refund request to support and validate the proper amount of the refund, the date the mailing was prepared, and the validity of the indicia on the mailpieces, then it could grant refunds for undated metered mail. The Postal Service proposes to apply the existing time frame restrictions for dated metered mail to undated metered mail. Additionally, the Postal Service proposes that refunds for unused, undated metered postage will only be considered when the customer submits at least 500 mailpieces from a single mailing, or, as an alternative, indicia worth at least $500 from a single mailing, along with the required supporting documentation. When more than one meter was used to prepare the mailing, a separate PS Form 3533, Application and Voucher for Refund of Postage, Fees, and Services, must be submitted for each meter used to print the unused indicia submitted for refund. Mailers concerned about their inability to obtain a refund for unused, undated metered postage because they have less than the required mail volume or cannot provide the required documentation should use dated meter indicia or permit imprint for their Standard Mail and Package Services mailpieces, as permitted, in lieu of undated meter indicia.

As part of this proposed rule, the Postal Service also proposes to revise DMM P014, Refunds and Exchanges, to clarify the mailing standards for refunds of unused, dated meter indicia. Portions of P014 are reorganized to consolidate all of the information related to submitting a refund request for unused meter indicia. Also included is a proposed clarification to specify that a contract postal unit (CPU) will handle refunds for unused meter indicia in accordance with the contract each CPU has executed with the Postal Service for the sale of metered postage.

Although exempt from the notice and comment requirements of the Administrative Procedure Act (5 U.S.C. 553(b), (c)) regarding proposed rulemaking by 39 U.S.C. 410(a), the Postal Service invites public comments on the following proposed amendments to the Domestic Mail Manual, incorporated by reference in the Code of Federal Regulations. See CFR part 111.

List of Subjects in 39 CFR Part 111

Administrative practice and procedure, Postal Service.

For reasons stated in the preamble, the Postal Service proposes to amend 39 CFR part 111 as follows:

PART 111—[AMENDED]

1. The authority citation for 39 CFR part 111 continues to read as follows:

Authority: 5 U.S.C. 552(a); 39 U.S.C. 101, 401, 403, 404, 414, 416, 3001, 3011, 3201, 3219, 3403'3406, 3621, 3626, 5001.

2. Revise Domestic Mail Manual (DMM) as set forth below:

Domestic Mail Manual (DMM)

* * * * *

P Postage and Payment Methods

P000 Basic Information

P010 General Standards

* * * * *

P014 Refunds and Exchanges

* * * * *

2.0 Postage and Fees Refunds

2.1 Refund Standards

A refund for postage and fees may be made:

* * * * *

[Add new item e to read as follows:]

e. Under the terms of a contract between the contract postal unit (CPU) and the USPS ® for unused postage printed by the CPU.

* * * * *

[Delete 2.5 and 2.6. Renumber current 2.7 through 2.12 as new 2.5 through 2.10, respectively.]

* * * * *

2.7 Applying for Refund

[Revise text of renumbered 2.7 to read as follows:]

For refunds under 2.0, the customer must apply for a refund on PS Form 3533; submit it to the postmaster; and provide the envelope, wrapper, or a part of it showing the names and addresses of the sender and addressee, canceled postage and postal markings, or other evidence of postage and fees paid. Refunds for metered postage are submitted under 3.0.

2.8 Ruling on Refund Request

[Revise text of renumbered 2.8 to read as follows:]

Refund requests are decided based on the specific type of postage or mailing:

a. Refunds under 2.0. The local postmaster grants or denies refunds under 2.0. The customer may appeal an adverse ruling through the postmaster to the rates and classification service center (RCSC) manager who issues the final agency decision.

b. Dated metered postage, except for PC Postage ® systems, under 3.0. The postmaster at the licensing Post Office™ grants or denies requests for refunds for dated metered postage under 3.0. The licensee may appeal an adverse ruling within 30 days through the manager of Postage Technology Management, USPS Headquarters (see G043 for address), who issues the final agency decision. The original meter indicia must be submitted with the appeal.

c. Undated metered postage under 3.0. The manager, business mail entry (MBME) at the district Post Office overseeing the mailer's licensing Post Office, or designee, grants or denies requests for refunds for undated metered postage under 3.0. The customer may appeal a decision on undated metered postage within 30 days through the MBME, or designee, to the RCSC manager who issues the final agency decision. The original meter indicia must be submitted with the appeal.

d. PC Postage systems under 3.0. The system provider grants or denies a request for a refund for dated indicia printed by PC Postage systems under 3.0 using established USPS criteria. For dated PC Postage indicia only, the licensee may appeal an adverse ruling within 30 days through the manager of Postage Technology Management, USPS Headquarters, who issues the final agency decision. The original indicia must be submitted with the appeal.

e. Optional procedure (OP) mailings. Mailer's request for a refund must be submitted to the manager of Business Mailers Support (BMS), USPS Headquarters (see G043 for address).

* * * * *

3.0 Refund Request for Postage Evidencing Systems and Metered Postage

* * * * *

[Revise title and text of 3.2 to read as follows:]

3.2 Unused, Dated Postage Evidencing System Indicia, Except for PC Postage Indicia

Unused, dated postage meter indicia are considered for refund only if complete, legible, and valid. PC Postage indicia refunds are processed under 3.3. All other metered postage refund requests must be submitted as follows:

a. The licensee must submit the request. The refund request must include proof that the person or entity requesting the refund is the licensee for the postage meter that printed the indicia. Acceptable proof includes a copy of the lease, rental agreement, or contract.

b. The licensee must submit the request, along with the items bearing the unused postage, to the licensing Post Office. The items must be sorted by meter used and then by postage value shown in the indicia, and must be properly faced and packaged in groups of 100 identical items when quantities allow. The request is processed by the USPS. The postmaster approves or denies the refund request.

c. The licensee must submit the refund request within 60 days of the date(s) shown in the indicia.

d. When the unused metered postage is affixed to a mailpiece, the refund request must be submitted with the entire envelope or wrapper. The unused metered postage must not be removed from the mailpiece once applied.

e. Indicia printed on labels or tapes not stuck to wrappers or envelopes must be submitted loose and must not be stapled together or attached to any paper or other medium. However, self-adhesive labels printed without a backing may be submitted on a plain sheet of paper.

f. If a part of one indicium is printed on one envelope or card and the remaining part on one or more others, they must be fastened together to show that they represent one indicium.

g. Refunds are allowable for indicia on metered reply envelopes only when it is obvious that an incorrect amount of postage was printed on them.

h. The refund request must be submitted with a properly completed PS Form 3533 (see I021). A separate PS Form 3533 must be completed for each meter for which a refund is requested. All identifying information and all sections related to the refund requested must be completed. Charges for processing a refund request for unused, dated meter indicia are as follows:

(1) If the total face value of the indicia is $350 or less, the amount refunded is 90% of the face value. USPS may process the refund payment locally via a no-fee postal money order.

(2) If the total face value is more than $350, the amount refunded is reduced by a figure representing $35 per hour, or fraction thereof, for the actual hours to process the refund, with a minimum charge of $35. The postmaster will submit the approved PS Form 3533 to the USPS Imaging and Scanning Center for payment processing through the Accounting Service Center.

[Renumber current 3.3 and 3.4 as new 3.5 and 3.6, respectively. Add new 3.3 and 3.4 to read as follows:]

3.3 Unused, Dated PC Postage Indicia

Unused, dated PC Postage indicia are considered for refund only if complete, legible, and valid. The refund request must be submitted as follows:

a. Only the PC Postage licensee may request the refund. The licensee must submit the request, along with the items bearing the unused postage, to the system provider. The request is processed by the provider, not the USPS.

b. The licensee must submit the refund request within 30 days of the date(s) shown in the indicia.

c. The refund request must be submitted as required by 3.2.d through 3.2.g.

d. The provider may, at its discretion, charge for processing a refund request.

3.4 Undated Metered Postage

Unused, undated postage evidencing system indicia are considered for refund only if complete, legible, and valid. The refund request must be submitted as follows:

a. Only the meter licensee or the commercial entity that prepared the mailing for the licensee using the licensee's meter may request the refund. The request must include a letter signed by the meter licensee or the commercial entity that prepared the mailing for the licensee explaining why the mailpieces were not mailed.

b. The minimum quantity of unused, undated metered postage that may be submitted for refund is 500 pieces from a single mailing or, as an alternative, indicia with a total postage value of at least $500 from a single mailing.

c. The meter licensee, or the commercial entity that prepared the mailing for the licensee using the licensee's meter, must submit the request, along with the items bearing the unused postage and the required documentation, to the manager of business mail entry at the district Post Office overseeing the mailer's licensing Post Office, or to a designee. The manager or designee approves or denies the refund request.

d. The request must include the items bearing the unused postage, sorted by meter used and then by postage value shown in the indicia. The items must be properly faced and packaged in groups of 100 identical items, when quantities allow, and must meet the requirements of 3.2.d through 3.2.g.

e. The request must be submitted within 60 days of the date the mail was metered. Supporting documentation must be submitted to validate the date. Examples of supporting documentation include the job order from the customer, production records, the USPS qualification report, spoilage report, and reorders created report, as well as customer billing records, postage statements, and a sample mailpiece.

f. The refund request must be submitted with a properly completed PS Form 3533 (see I021). All identifying information and all sections related to the refund requested must be completed. When more than one meter was used to prepare the mailing, a separate PS Form 3533 must be completed for each.

(1) If the total face value of the indicia for a single mailing submitted for refund is $350 or less, the amount refunded is 90% of the face value. USPS may process the refund payment locally via a no-fee postal money order.

(2) If the total face value of the indicia for a single mailing submitted for refund is more than $350, the amount refunded is reduced by a figure representing $35 per hour, or fraction thereof, for the actual hours to process the refund, with a minimum charge of $35. The MBME will submit the approved PS Form 3533 to the USPS Imaging and Scanning Center for payment processing through the Accounting Service Center.

3.5 Ineligible Metered Postage Items

The following metered postage items are ineligible for refunds:

* * * * *

[Revise text of renumbered 3.5.d to read as follows:]

d. Indicia lacking identification of the licensing Post Office, or other required information.

* * * * *

We will publish an appropriate amendment to 39 CFR 111 to reflect these changes if the proposal is adopted.

Stanley F. Mires,
Chief Counsel, Legislative.

[FR Doc. 03-27186 Filed 10-28-03; 8:45 am]

BILLING CODE 7710-12-P